DEPARTMENT OF COMMERCE

National Oceanic and Atmospheric Administration

RIN 0648-XA115

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Management Team (HMSMT) will hold a work session, which is open to the public.

DATES: The HMSMT work session will begin at 8:30 a.m. on Wednesday, January 19, 2011 and continue on Thursday, January 20, 2011, again beginning at 8:30 a.m. On both days the meeting will continue until business is completed.

ADDRESSES: The work sessions will be held at the Large Conference Room, U.S. Fish and Wildlife Offices, 6010 Hidden Valley Rd., Carlsbad, CA 92011; telephone: (760) 431-9440.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The HMSMT will discuss two topics. First, they will discuss characterization of fisheries catching North Pacific albacore tuna in preparation for developing potential management responses to a new stock assessment due to be completed in 2011. Second, the HMSMT will discuss potential improvements for categorizing and reporting landings data for west coast fisheries catching HMS. Informational topics, such as an update on Marine Recreational Information Program funded projects on the west coast, may also be discussed, time permitting.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Authority: 16 U.S.C. 1801 et seq.

Dated: December 22, 2010.
Tracey L. Thompson,
Acting Director, Office of Sustainable Fisheries, National Marine Fisheries Service.

[FR Doc. 2010-32690 Filed 12-28-10; 8:45 am]

BILLING CODE 3510-22-P